DEPARTMENT OF HEALTH AND HUMAN SERVICES

Food and Drug Administration

21 CFR Part 73

[Docket No. 97C-0415]

Listing of Color Additives Exempt From Certification; Luminescent Zinc Sulfide; Confirmation of Effective Date

AGENCY: Food and Drug Administration, HHS.

ACTION: Final rule; confirmation of effective date.

SUMMARY: The Food and Drug Administration (FDA) is confirming the effective date of September 8, 2000, for the final rule that appeared in the Federal Register of August 8, 2000 (65 FR 48375). The final rule amended the color additive regulations to provide for the safe use of luminescent zinc sulfide as a color additive in certain externally applied cosmetics.

DATES: Effective date confirmed: September 8, 2000.

FOR FURTHER INFORMATION CONTACT: Aydin Örstan, Center for Food Safety and Applied Nutrition (HFS-215), Food and Drug Administration, 200 C St. SW., Washington, DC 20204, 202-418-3076.

SUPPLEMENTARY INFORMATION: In the Federal Register of August 8, 2000 (65 FR 48375), FDA amended the color additive regulations to add § 73.2995 Luminescent zinc sulfide (21 CFR 73.2995) to provide for the safe use of luminescent zinc sulfide as a color additive in certain externally applied cosmetics.

FDA gave interested persons until September 7, 2000, to file objections or requests for a hearing. The agency received no objections or requests for a hearing on the final rule. Therefore, FDA finds that the effective date of the final rule that published in the Federal Register of August 8, 2000, should be confirmed.

List of Subjects in 21 CFR Part 73

Color additives, Cosmetics, Drugs, Foods, Medical devices.

Therefore, under the Federal Food, Drug, and Cosmetic Act (21 U.S.C. 321, 341, 342, 343, 348, 351, 352, 355, 361, 362, 371, 379e) and under authority delegated to the Commissioner of Food and Drugs (21 CFR 5.10), notice is given that no objections or requests for a hearing were filed in response to the August 8, 2000, final rule. Accordingly, the amendments issued thereby became effective September 8, 2000.

Dated: September 29, 2000.
Margaret M. Dotzel,
Associate Commissioner for Policy.

[FR Doc. 00-25697 Filed 10-5-00; 8:45 am]

BILLING CODE 4160-01-F